FEDERAL COMMUNICATIONS COMMISSION

47 CFR Part 73

[DA 02-160; MM Docket No. 90-189; RM-6904; RM-7114; RM-7186; RM-7415; RM-7298]

Radio Broadcasting Services; Grass Valley and Jackson, CA

AGENCY: Federal Communications Commission.

ACTION: Final rule, application for review.

SUMMARY: This document dismisses an Application for Review filed by Nevada County Broadcasters, Inc. directed against a staff Memorandum Opinion and Order in this proceeding. See 64 FR 63258, Published November 19, 1999. This action is contingent on the concurrent grants of applications filed by Station KNCO, Grass Valley, California, (File No. BPH-20011025AAB), and Station KNGT, Jackson, California, (File No. BPH-20011024ABE), both proposing operation on Channel 232A. The reference coordinates for the Channel 232A at Grass Valley, California, are 39-14-44 and 120-57-52. The reference coordinates for the Channel 232A allotment at Jackson, California, are 38-24-44 and 120-35-32. With this action, the proceeding is terminated.

DATES: Effective February 5, 2002.

FOR FURTHER INFORMATION CONTACT: Robert Hayne, Mass Media Bureau, (202) 418-2177.

SUPPLEMENTARY INFORMATION: This is a synopsis of the Commission's Memorandum Opinion and Order in MM Docket No. 90-189, adopted January 16, 2002, and released January 18, 2002. The full text of this decision is available for inspection and copying during normal business hours in the FCC's Reference Information Center at Portals II, CY-A257, 445 12th Street, SW., Washington, DC. The complete text of this decision may also be purchased from the Commission's duplicating contractor, Qualex International, Portals ll, 445 12th Street, SW., Room CY-B402, Washington, DC 20554, telephone 202-863-2893, facsimile 202-863-2898, or via e-mail qualexint@aol.com.

List of Subjects in 47 CFR Part 73

Radio broadcasting.

Part 73 of Title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under California, is amended by removing Channel 231A and adding Channel 232A at Grass Valley.

3. Section 73.202(b), the Table of FM Allotments under California, is amended by removing Channel 232B1 and adding Channel 232A at Jackson.

Federal Communications Commission.
John A. Karousos,
Chief, Allocations Branch, Policy and Rules Division, Mass Media Bureau.

[FR Doc. 02-2616 Filed 2-4-02; 8:45 am]

BILLING CODE 6712-01-P